ENVIRONMENTAL PROTECTION AGENCY

[FRL-8213-2]

EPA Science Advisory Board; Notification of a Public Telephone Conference of the Science Advisory Board

AGENCY: Environmental Protection Agency.

ACTION: Notice.

SUMMARY: The Environmental Protection Agency (EPA) Science Advisory Board (SAB) Staff Office announces a public telephone conference of the Chartered Board to review three draft SAB Panel Reports.

DATES: The SAB will meet via telephone conference on September 21, 2006, and if necessary continue on September 22, 2006, to review three SAB draft reports: (1) Review of 2005 Agency Draft entitled Expansion and Upgrade of the RadNet Air Monitoring Network, Vol. 1&2, Concept and Plan; (2) SAB Advisory on EPA's Second Generation Model; and (3) Peer Review of the “All-Ages Lead Model (AALM) Version 1.05. The meeting will begin at 1 p.m. and end at 4 p.m. (Eastern Time) on September 21, 2006. If additional time is needed to complete any of these reviews, the meeting will be reconvened at 1 p.m. (Eastern Time), Friday, September 22, 2006.

Location: Telephone conference call only.

FOR FURTHER INFORMATION CONTACT: Any member of the public wishing to obtain general information concerning this telephone conference should contact Mr. Thomas Miller, Designated Federal Officer (DFO), EPA Science Advisory Board (1400F), U.S. Environmental Protection Agency, 1200 Pennsylvania Avenue, NW., Washington, DC 20460; via telephone/voice mail: (202) 343-9982; fax: (202) 233-0643; or e-mail at: miller.tom@epa.gov. General information concerning the EPA Science Advisory Board can be found on the EPA Web Site at: http://www.epa.gov/sab.

SUPPLEMENTARY INFORMATION: Pursuant to the Federal Advisory Committee Act, Public Law 92-463, notice is hereby given that the EPA SAB will hold a public telephone conference to review three draft SAB Panel reports. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: The purpose of the teleconference is to review three draft SAB reports. In reviewing draft reports from its Panels, the SAB considers whether: (i) The original charge questions to the SAB review panel were adequately addressed in the draft report, (ii) the draft report is clear and logical; and (iii) the conclusions drawn, or recommendations made in the draft report, are supported by the body of the report. The draft reports to be reviewed at this meeting resulted from the efforts of several SAB Panels and they focus on the following issues:

(1) Rad Net: RadNet is the United States' only comprehensive network for monitoring radioactivity and ionizing radiation in the environment. Since its inception in 1973, RadNet (formerly known as the Environmental Radiation Ambient Monitoring System (ERAMS) has continuously monitored multiple media, including air, precipitation, surface water, drinking water, and milk. The Environmental Protection Agency proposed to upgrade and expand the air monitoring component to address homeland security concerns, as well as to meet the original mission to provide information on nuclear or radiological accidents. When implementation is complete, RadNet will consist of 180 fixed monitors augmented by 40 deployable monitors with real-time monitoring capability. Additional information on the SAB review of RadNet can be found at: http://www.epa.gov/sab/panels/rac_radnet_review_panel.htm.

(2) Second Generation Model: The Second Generation Model (SGM) is a computer program that simulates the economic interactions and contributions to greenhouse gas emissions of 14 regions of the world. The model contains detail on the functioning of labor markets, energy fuels markets, and commodity markets in each region. Its general-equilibrium framework attempts to integrate consistently the behavior of these markets both within and across regions. The model is designed to simulate such climate policies as carbon fees, greenhouse gas allowance trading, and incentives for accelerated energy conservation. For each policy simulated, the SGM indicates potential impacts on a range of economic and other variables, including labor demand, investment, industrial output, GDP, energy use, emissions, and government revenue. The model indicates policy impacts not only in the near term but at various points in the future as well. Additional information on the SAB review of the SGM can be found at: http://www.epa.gov/sab/panels/sgm_adv_panel.htm.

(3) All Ages Lead Model: The All Ages Lead Model (AALM) is designed to predict lead concentrations in body tissues and organs for a hypothetical individual, based on a simulated lifetime of lead exposure. Statistical methods can be used to extrapolate to a population of similarly-exposed individuals. The precursor to the AALM was the Integrated Exposure Uptake Biokinetic (IEUBK) Model for Lead in Children. The IEUBK Model underwent peer review by the SAB in 1991 and was subsequently revised in response to that review, leading to release of Version 0.99d of the IEUBK Model in March 1994. Since then, the IEUBK Model has been widely accepted and used in the risk assessment community as a tool for implementing the site-specific risk assessment process when the issue is childhood lead exposure. Based on further refinement of the IEUBK Model and its expansion for use with additional age groups beyond pediatric populations six years old or younger, the AALM has recently been developed to cover older childhood and adult lead exposure. The anticipated outcome of this model is reduced uncertainty in lead exposure assessments for children and adults. Additional information on the SAB review of the All Ages Lead Model can be found at: http://www.epa.gov/sab/panels/ad_hoc_aalm_rev_panel.htm.

Availability of Meeting Materials: The draft agendas and other materials will be posted on the SAB Web site at: http://www.epa.gov/sab/ prior to the telephone conference.

Procedures for Providing Public Input: Interested members of the public may submit relevant written or oral information for the SAB to consider during the telephone conference. Oral Statements: In general, individuals or groups requesting an oral presentation at a public SAB telephone conference will be limited to three minutes per speaker, with no more than a total of one-half hour for all speakers. Interested parties should contact Mr. Thomas Miller, DFO, in writing (preferably via e-mail), by September 15, 2006, at the contact information noted above, to be placed on the public speaker list for this meeting. Written Statements: Written statements should be received in the SAB Staff Office by September 13, 2006, so that the information may be made available to the SAB for their consideration prior to this meeting. Written statements should be supplied to the DFO in the following formats: one hard copy with original signature, and one electronic copy via e-mail (acceptable file format: Adobe Acrobat PDF, WordPerfect, MS Word, MS PowerPoint, or Rich Text files in IBM-PC/Windows 98/2000/XP format).

Accessibility: For information on access or services for individuals with disabilities, please contact Mr. Thomas Miller at (202) 343-9982 or miller.tom@epa.gov. To request accommodation of a disability, please contact Mr. Miller preferably at least ten days prior to the meeting, to give EPA as much time as possible to process your request.

Dated: August 21, 2006.
Anthony F. Maciorowski,
Associate Director for Science, EPA Science Advisory Board Staff Office.

[FR Doc. E6-14166 Filed 8-24-06; 8:45 am]

BILLING CODE 6560-50-P